DEPARTMENT OF ENERGY

10 CFR Part 430

Energy Conservation Program for Consumer Products

CFR Correction

This rule is being published by the Office of the Federal Register to correct an editorial or technical error that appeared in the most recent annual revision of the Code of Federal Regulations.

In Title 10 of the Code of Federal Regulations, Parts 200 to 499, revised as of January 1, 2024, make the following corrections:

1. Amend § 430.3 by revising paragraph (q)(6) to read as follows:

§ 430.3 Materials incorporated by reference.

* * * * *

(q) * * *

(6) IEC 62301 (“IEC 62301”), Household electrical appliances—Measurement of standby power, (Edition 2.0, 2011-01); IBR approved for appendices C1, C2, D1, D2, F, G, I, I1, J, J2, N, O, P, Q, U, X1, Y, Y1, Z, BB, CC, CC1, EE, and FF to subpart B.

* * * * *

2. Amend Appendix X1 to Subpart B of Part 430 by:

a. Reinstating section 4.1.1.;

b. Removing the second instance of section 4.2.; and

c. Removing sections 4.3.1 and 4.3.2.

The reinstated text reads as follows:

Appendix X1 to Subpart B of Part 430—Uniform Test Method for Measuring the Energy Consumption of Dehumidifiers

* * * * *

4.1 * * *

4.1.1 Portable dehumidifiers and whole-home dehumidifiers other than refrigerant-desiccant dehumidifiers. Measure the energy consumption in dehumidification mode, EDM, in kilowatt-hours (kWh), the average percent relative humidity, Ht, either as measured using a relative humidity sensor or using Tables 2 and 3 when using an aspirating psychrometer, and the product capacity, Ct, in pints per day (pints/day), in accordance with the test requirements specified in section 7, “Test Tolerances,” section 8, “Capacity Test,” and section 9, “Energy Consumption,” of AHAM DH-1-2022, with two exceptions. First, the rating test period must be 2 hours. Second, maintain the standard test conditions as shown in Table 1.

Table 1 to Paragraph 4.1.1.—Standard Test Conditions for Dehumidifier Testing
Configuration | Dry-bulb temperature (°F) | Aspirating psychrometer wet-bulb temperature (°F) | Relative humidity sensor relative humidity (%)
Portable dehumidifiers | 65 ± 2.0 | 56.6 ± 1.0 | 60 ± 2
Whole-home dehumidifiers | 73 ± 2.0 | 63.6 ± 1.0 | 60 ± 2

When using relative humidity and dry-bulb temperature sensors, for dehumidifiers with multiple process air intake grilles, average the measured relative humidities and average the measured dry-bulb temperatures to determine the overall intake air conditions.

Table 2 to Paragraph 4.1.1.—Relative Humidity as a Function of Dry-Bulb and Wet-Bulb Temperatures for Portable Dehumidifiers
Wet-bulb temperature (°F) | Dry-bulb temperature (°F): 64.5 | Dry-bulb temperature (°F): 64.6 | Dry-bulb temperature (°F): 64.7 | Dry-bulb temperature (°F): 64.8 | Dry-bulb temperature (°F): 64.9 | Dry-bulb temperature (°F): 65 | Dry-bulb temperature (°F): 65.1 | Dry-bulb temperature (°F): 65.2 | Dry-bulb temperature (°F): 65.3 | Dry-bulb temperature (°F): 65.4 | Dry-bulb temperature (°F): 65.5
56.3 | 60.32 | 59.94 | 59.57 | 59.17 | 58.8 | 58.42 | 58.04 | 57.67 | 57.3 | 56.93 | 56.56
56.4 | 60.77 | 60.38 | 60 | 59.62 | 59.24 | 58.86 | 58.48 | 58.11 | 57.73 | 57.36 | 56.99
56.5 | 61.22 | 60.83 | 60.44 | 60.06 | 59.68 | 59.3 | 58.92 | 58.54 | 58.17 | 57.8 | 57.43
56.6 | 61.66 | 61.27 | 60.89 | 60.5 | 60.12 | 59.74 | 59.36 | 58.98 | 58.6 | 58.23 | 57.86
56.7 | 62.4 | 61.72 | 61.33 | 60.95 | 60.56 | 60.18 | 59.8 | 59.42 | 59.04 | 58.67 | 58.29
56.8 | 62.56 | 62.17 | 61.78 | 61.39 | 61 | 60.62 | 60.24 | 59.86 | 59.48 | 59.1 | 58.73
56.9 | 63.01 | 62.62 | 62.23 | 61.84 | 61.45 | 61.06 | 60.68 | 60.3 | 59.92 | 59.54 | 59.16

Table 3 to Paragraph 4.1.1.—Relative Humidity as a Function of Dry-Bulb and Wet-Bulb Temperatures for Whole-Home Dehumidifiers
Wet-bulb temperature (°F) | Dry-bulb temperature (°F): 72.5 | Dry-bulb temperature (°F): 72.6 | Dry-bulb temperature (°F): 72.7 | Dry-bulb temperature (°F): 72.8 | Dry-bulb temperature (°F): 72.9 | Dry-bulb temperature (°F): 73 | Dry-bulb temperature (°F): 73.1 | Dry-bulb temperature (°F): 73.2 | Dry-bulb temperature (°F): 73.3 | Dry-bulb temperature (°F): 73.4 | Dry-bulb temperature (°F): 73.5
63.3 | 60.59 | 60.26 | 59.92 | 59.59 | 59.26 | 58.92 | 58.6 | 58.27 | 57.94 | 57.62 | 57.3
63.4 | 60.98 | 60.64 | 60.31 | 59.75 | 59.64 | 59.31 | 58.98 | 58.65 | 58.32 | 58 | 57.67
63.5 | 61.37 | 61.03 | 60.7 | 60.36 | 60.02 | 59.69 | 59.36 | 59.03 | 58.7 | 58.38 | 58.05
63.6 | 61.76 | 61.42 | 61.08 | 60.75 | 60.41 | 60.08 | 59.74 | 59.41 | 59.08 | 58.76 | 58.43
63.7 | 62.16 | 61.81 | 61.47 | 61.13 | 60.8 | 60.46 | 60.13 | 59.8 | 59.47 | 59.14 | 58.81
63.8 | 62.55 | 62.2 | 61.86 | 61.52 | 61.18 | 60.85 | 60.51 | 60.18 | 59.85 | 59.52 | 59.19
63.9 | 62.94 | 62.6 | 62.25 | 61.91 | 61.57 | 61.23 | 60.9 | 60.56 | 60.23 | 59.9 | 59.57

* * * * *

[FR Doc. 2024-29566 Filed 12-12-24; 8:45 am]

BILLING CODE 0099-10-P